DEPARTMENT OF AGRICULTURE

Natural Resources Conservation Service

Notice of Proposed Change to Section IV of the Field Office Technical Guide (FOTG) of the Natural Resources Conservation Service in Louisiana

AGENCY: Natural Resources Conservation Service (NRCS), Department of Agriculture.

ACTION: Notice of availability of proposed changes in the NRCS National Handbook of Conservation Practices for review and comment.

SUMMARY: It is the intention of the NRCS in Louisiana to issue revised conservation practice standard: Deep Tillage (324), Conservation Cover (327), Conservation Crop Rotation (328), Cover Crop (340), Residue Management, Seasonal (344), Field Border (386), Riparian Forest Buffer (391), Filter Strip (393), Pest Management (595), and Wetland Enhancement (659).

DATES: Comments will be received for a 30-day period commencing with this date of publication.

FOR FURTHER INFORMATION CONTACT: Inquire in writing to Donald W. Gohmert, State Conservationist, Natural Resources Conservation Service (NRCS), 3737 Government Street, Alexandria, Louisiana 71302. Copies of the practice standards will be made available upon written request.

SUPPLEMENTARY INFORMATION: Section 343 of the Federal Agriculture Improvement and Reform Act of 1996 states that revisions made after enactment of the law to NRCS State Technical Guides used to carry out highly erodible land and wetland provisions of the law shall be made available for public review and comment. For the next 30 days the NRCS in Louisiana will receive comments relative to the proposed changes. Following that period a determination will be made by the NRCS in Louisiana regarding disposition of those comments and a final determination of change will be made.

Dated: January 7, 2002.
Donald W. Gohmert,
State Conservationist, USDA, Natural Resources Conservation Service, Alexandria, Louisiana 71302.

[FR Doc. 02-2136 Filed 1-28-02; 8:45 am]

BILLING CODE 3410-16-P